DEPARTMENT OF LABOR

Employment and Training Administration

[TA-W-60,172]

Sunshine School Uniforms and Supply Company Including On-Site Leased Workers of ADP Total Source Medley, Florida; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 23, 2006, applicable to workers of Sunshine School Uniforms, and Supply Company, Medley, Florida. The notice was published in the Federal Register on November 16, 2006 (71 FR 66799).

At the request of the State agency, the Department reviewed the certification for workers of the subject firm. The workers were engaged in the production of school uniforms.

New information shows that leased workers of ADP Total Source were employed on-site at the Medley, Florida location of Sunshine School Uniforms and Supply Company.

Information also shows that all workers separated from employment at the subject firm had their wages reported under a separate unemployment insurance (UI) tax account for ADP Total Source.

Accordingly, the Department is amending the certification to properly reflect this matter.

The intent of the Department's certification is to include all workers of Sunshine School Uniforms and Supply Company, Medley, Florida who were adversely affected by a shift of production to Guatemala.

The amended notice applicable to TA-W-60,172 is hereby issued as follows:

“All workers of Sunshine Schools Uniforms and Supply Company, including on-site leased workers ADP Total Source, Medley, Florida who became totally or partially separated from employment on or after September 27, 2005, through October 23, 2008, are eligible to apply for adjustment assistance under Section 223 of the Trade Act of 1974, and are also eligible to apply for alternative trade adjustment assistance under Section 246 of the Trade Act of 1974.”

Signed at Washington, DC, this 4th day of January 2007.
Ellott S. Kushner,
Certifying Officer, Division of Trade Adjustment Assistance.

[FR Doc. E7-464 Filed 1-12-07; 8:45 am]

BILLING CODE 4510-30-P